DEPARTMENT OF AGRICULTURE

Natural Resources Conservation Service

Notice of Proposed Change to the Natural Resources Conservation Service—Arizona's Section IV of the Field Office Technical Guide

AGENCY: Natural Resources Conservation Service (NRCS), U.S. Department of Agriculture.

ACTION: Notice of availability of proposed changes in the NRCS Arizona Section IV of the Field Office Technical Guide for review and comment.

SUMMARY: It is the intention of NRCS Arizona to issue a series of new conservation practice standards in its Section IV of the Field Office Technical Guide. These new standards include Nutrient Management (Code 590) and Waste Management System (Code 312).

DATES: Comments will be received on or before January 2, 2001.

FOR FURTHER INFORMATION CONTACT: Inquire in writing to Noller Herbert, Natural Resources Conservation Service (NRCS), 3003 N. Central Ave., Suite 800, Phoenix, AZ, 85012-2945.

Copies of these standards are available from the NRCS, attention: Noller Herbert, 3003 N. Central Avenue, Suite 800, Phoenix, AZ 85012-2945 or can be downloaded from the NRCS Arizona ftp site: ftp://ftp.az.nrcs. usda.gov/fotg/sec4/draft.

SUPPLEMENTARY INFORMATION: Section 343 of the Federal Agriculture Improvement and Reform Act of 1996 states that revisions made after enactment of the law to NRCS State technical guides used to carry out highly erodible land and wetland provisions of the law shall be made available for public review and comment. For the next 30 days the NRCS will receive comments relative to the proposed changes. Following that period a determination will be made by the NRCS regarding disposition of those comments and a final determination of change will be made.

Dated: November 17, 2000.
Michael Somerville,
State Conservationist.

[FR Doc. 00-30596 Filed 11-30-00; 8:45 am]

BILLING CODE 3410-16-P